DEPARTMENT OF DEFENSE

Office of the Secretary

Cost-Sharing Rates for Pharmacy Benefits Program of the TRICARE Program

AGENCY: Office of the Secretary, Department of Defense.

ACTION: Notice of change to cost-sharing rates to the TRICARE Pharmacy Benefits Program.

SUMMARY: This notice is to advise interested parties of cost-sharing rate change for the Pharmacy Benefits Program.

DATES: The cost-sharing rate changes will be effective February 1, 2013.

FOR FURTHER INFORMATION CONTACT: RADM Thomas J. McGinnis, TRICARE Management Activity, Pharmaceutical Operations Directorate, telephone (703) 681-2890.

SUPPLEMENTARY INFORMATION: Section 712 of the National Defense Authorization Act for 2013 establishes the cost-sharing rates under the TRICARE pharmacy benefits program as $5 for generic medications, $17 for formulary medications and $44 for non-formulary medications for not more than a 30-day supply obtained through retail pharmacies, and $0 for generic medications, $13 for formulary medications, and $43 for non-formulary medications for not more than a 90-day supply obtained through the TRICARE mail-order pharmacy. The Act limits any annual increase in cost-sharing rates under the TRICARE pharmacy program to the amount equal to the percentage increase by which retiree pay is increased beginning October 1, 2013. The effective date shall apply to prescriptions obtained under TRICARE on or after February 1, 2013.

Dated: January 23, 2013.
Aaron Siegel,
Alternate OSD Federal Register Liaison Officer, Department of Defense.

[FR Doc. 2013-01642 Filed 1-25-13; 8:45 am]

BILLING CODE 5001-06-P